DEPARTMENT OF EDUCATION

[Docket No.: ED-2023-SCC-0183]

Agency Information Collection Activities; Comment Request; Evaluation of a Toolkit To Support Evidence-Based Writing Instruction in Grades 2 Through 4

AGENCY: Institute of Education Sciences (IES), Department of Education (ED).

ACTION: Notice.

SUMMARY: In accordance with the Paperwork Reduction Act (PRA) of 1995, the Department is proposing a new information collection request (ICR).

DATES: Interested persons are invited to submit comments on or before December 19, 2023.

ADDRESSES: To access and review all the documents related to the information collection listed in this notice, please use http://www.regulations.gov by searching the Docket ID number ED-2023-SCC-0183. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Heidi Gansen, (202) 245-6765.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of A Toolkit to Support Evidence-Based Writing Instruction in Grades 2 Through 4.

OMB Control Number: 1850-NEW.

Type of Review: New ICR.

Respondents/Affected Public: Individuals or households.

Total Estimated Number of Annual Responses: 4,176.

Total Estimated Number of Annual Burden Hours: 1,234.

Abstract: The Institute of Education Sciences (IES) within the U.S. Department of Education (ED) requests clearance for data collection activities to support an evaluation of A Toolkit to Support Evidence-Based Writing Instruction in Grades 2 Through 4. Specifically, this request covers collection of data to conduct an evaluation to assess whether implementing the writing toolkit (1) improves teachers' attitudes towards writing and helps them align their writing instruction with the evidence-based recommendations in the What Works Clearinghouse (WWC) Teaching Elementary School Students to Be Effective Writers practice guide and (2) improves students' writing quality and reading achievement. This randomized controlled trial study will compare teacher and student outcomes in schools that implement the writing toolkit (the treatment group) with the teacher and student outcomes in schools that continue to provide their usual professional development supports (the comparison group).

There is a great need for professional learning supports in elementary writing instruction to address low reading and writing proficiency across the country. Teacher preparation programs rarely offer stand-alone writing instruction (Myers et al. 2016; Morgan 2010; Brenner 2013), and surveys show many teachers and teacher educators do not feel confident in writing instruction (Myers et al. 2016; Cutler and Graham 2008). An accessible package of professional learning materials designed to help educators translate evidence-based recommendations for elementary writing instruction into daily instruction could be a game-changer for improving teacher practice and student writing.

The elementary writing toolkit aims to offer such an accessible, evidence-based professional learning package by drawing on the WWC Teaching Elementary School Students to Be Effective Writers practice guide. The practice guide helps to fill the professional development gaps for elementary writing instruction by providing clear, actionable recommendations along with specific implementation steps and examples. The toolkit will build on the practice guide to (1) make the recommendations and implementation guidance accessible and engaging for busy educators, (2) create a structure for learning and applying practices throughout a school year, (3) promote collaborative learning and planning among teachers, and (4) offer tools for sustaining practices over time. The toolkit will be a one-stop shop that enables schools and educators to access all supports in one place, complemented by diagnostic tools to assess practices and resources for school leaders to institutionalize practices over time. Incorporating multimedia resources that are easy to navigate will make the toolkit more inviting and will facilitate the reinforcement of concepts that are difficult to learn through text alone.

To provide context for the impact findings and inform further development of the toolkit, the evaluation will examine teachers' experiences and engagement in toolkit activities, the learning modules completed, challenges encountered and suggested solutions, feedback on areas to improve the toolkit and institutional supports, and the extent to which the professional development in writing instruction received by teachers differs between treatment and control schools. Obtaining feedback on improving the toolkit, regardless of whether the impact findings are positive, is critical to ensure that the toolkit is as useful as possible to districts, schools, and teachers when they implement the evidence-based practices.

Dated: October 17, 2023.
Juliana Pearson,
PRA Coordinator, Strategic Collections and Clearance, Governance and Strategy Division, Office of Chief Data Officer, Office of Planning, Evaluation and Policy Development.

[FR Doc. 2023-23152 Filed 10-19-23; 8:45 am]

BILLING CODE 4000-01-P